SECURITIES AND EXCHANGE COMMISSION

Sunshine Act Meetings

Federal Register Citation of Previous Announcement: [To be published].

Status: Open Meeting.

Place: 100 F Street, NE., Washington, DC.

Date and Time of Previously Announced Meeting: May 14, 2008 at 10 a.m.

Change in the Meeting: Additional Item Date Change.

The following matter will be considered during the 10 a.m. Open Meeting scheduled for Wednesday, May 21, 2008, at 10 a.m., in the Auditorium, Room L-002:

The Commission will consider whether to propose amendments to provide for mutual fund risk/return summary information to be filed with the Commission in interactive data format.

For further information and to ascertain what, if any, matters have been added, deleted or postponed, please contact:

The Office of the Secretary at (202) 942-7070.

Dated: May 8, 2008.
Nancy M. Morris,
Secretary.

[FR Doc. E8-10720 Filed 5-13-08; 8:45 am]

BILLING CODE 8010-01-P